DEPARTMENT OF TRANSPORTATION

Office of the Secretary

[Dockets OST-00-7168 and OST-00-7197]

Application of TIE Aviation, Inc. d/b/a Trans International Express for Issuance of a Foreign Charter Certificate and Pendente Lite Exemption

AGENCY: Department of Transportation.

ACTION: Notice of order to show cause (Order 2000-9-20).

SUMMARY: The Department of Transportation is directing all interested persons to show cause why it should not issue an order (1) finding that TIE Aviation, Inc. d/b/a Trans International Express has failed to demonstrate a reasonable operating proposal and (2) denying it a certificate of public convenience and necessity to engage in foreign charter all-cargo transportation and pendente lite exemption.

DATES: Persons wishing to file objections should do so no later than October 4, 2000.

ADDRESSES: Objections and answers to objections should be filed in Dockets OST-00-7168 and OST-00-7197 and addressed to the Department of Transportation Dockets (SVC-124, Room PL-401), U.S. Department of Transportation, 400 Seventh Street, SW., Washington, DC 20590, and should be served upon the parties listed in Attachment A to the order.

FOR FURTHER INFORMATION CONTACT: Ms. Kathy L. Cooperstein, Air Carrier Fitness Division (X-56, Room 6401), U.S. Department of Transportation, 400 Seventh Street, SW., Washington, DC 20590, (202) 366-2337.

Dated: September 20, 2000.
A. Bradley Mims,
Deputy Assistant Secretary for Aviation and International Affairs.

[FR Doc. 00-24859 Filed 9-26-00; 8:45 am]

BILLING CODE 4910-62-U